DEPARTMENT OF COMMERCE

International Trade Administration

[A-823-812]

Antidumping Duty Investigation of Carbon and Certain Alloy Steel Wire Rod From Ukraine.

AGENCY: Import Administration, International Trade Administration, Department of Commerce.

ACTION: Notice to defer a decision regarding Ukraine's non-market economy status.

SUMMARY: The Department of Commerce is deferring its decision regarding Ukraine's non-market economy status beyond the instant investigation's final determination date of August 23, 2002, as provided in section 771(18)(C)(ii) of the Tariff Act of 1930, as amended.

DATE: August 8, 2002.

FOR FURTHER INFORMATION CONTACT: George Smolik, Import Administration, International Trade Administration, U.S. Department of Commerce, 14th Street and Constitution Avenue, NW., Washington, DC 20230; telephone: (202) 482-1843.

SUPPLEMENTARY INFORMATION:

The Applicable Statute

All citations to the Tariff Act of 1930, as amended (“the Act”), are references to the provisions effective January 1, 1995, the effective date of the amendments made to the Act by the Uruguay Round Agreements Act.

Background

The Government of Ukraine and Krivorozhstal, the sole respondent in the instant proceeding, have requested revocation of Ukraine's non-market economy (“NME”) status. In response to the request, the Department has invited and received public comments and rebuttal comments regarding Ukranian economic reforms. See 67 FR 19394 (April 19, 2002). In addition, the Department has compiled and analyzed information regarding Ukrainian economic reforms from independent third-party sources that we commonly cite for our decisions in this area.

Decision Deferral

The Department has developed a great deal of information regarding Ukraine's economic reforms. The information raises a broad range of issues that require additional time to evaluate before the Department makes a decision on this matter. The Department is therefore deferring its decision regarding Ukraine's non-market economy status beyond the instant investigation's final determination date of August 23, 2002. Since a country's NME status remains in effect until revoked, Ukraine will continue to be treated as a NME country for purpose of the instant final determination (see section 771(18)(C)(i) of the Act).

August 5, 2002.
Faryar Shirzad,
Assistant Secretary for Import Administration.

[FR Doc. 02-20238 Filed 8-7-02; 8:45 am]

BILLING CODE 3510-DS-P